DEPARTMENT OF DEFENSE

Department of the Army

Piñon Canyon Maneuver Site Training and Operations Environmental Impact Statement for Fort Carson, CO

AGENCY: Department of the Army, DoD.

ACTION: Notice of Intent.

SUMMARY: The Department of the Army announces its intent to prepare an Environmental Impact Statement (EIS) to evaluate the environmental and socioeconomic impacts of proposed training and operations activities at Piñon Canyon Maneuver Site (PCMS), CO. The PCMS is the maneuver site for Fort Carson, CO. The PCMS is located near Trinidad, CO, approximately 150 miles southeast of Fort Carson, and consists of approximately 235,000 acres. The EIS will assess proposed PCMS training, infrastructure improvement, and land management activities to support Fort Carson training requirements. It will also assess the impacts of reclassification of the airspace that overlies PCMS. The proposed action does not include, nor would it require, expansion of PCMS.

ADDRESSES: Comments on the Proposed Action or requests for additional information should be sent to the Fort Carson NEPA Program Manager, Directorate of Public Works, Environmental Division, 1626 Evans Street, Building 1219, Fort Carson, CO 80913-4362, or call (719) 526-4666. Comments may also be submitted via email to: usarmy.carson.imcom-central.list.dpw-ed-nepa@mail.mil.

FOR FURTHER INFORMATION CONTACT: The Fort Carson Public Affairs Office at (719) 526-1269, Monday through Friday, 7:30 a.m. to 4:00 p.m. MST; or by email to: usarmy.carson.hqda-ocpa.list.pao-officer@mail.mil.

SUPPLEMENTARY INFORMATION: The EIS is being prepared to meet the requirements of the National Environmental Policy Act (NEPA) to evaluate the environmental and socioeconomic impacts of implementing proposed actions at PCMS.

PCMS supports readiness training for units up to Brigade-size stationed at Fort Carson and for visiting Reserve and National Guard units. Training must fully integrate ground and air resources and reflect the modern battlefield environment for which Soldiers are preparing. The PCMS must accommodate training for current and emerging tactics and new equipment; provide training infrastructure, land and airspace within PCMS necessary to support training requirements; and support assigned and visiting units.

Advances in equipment and weapons systems, to include their incorporation into tactical units, dictate changes in how the Army trains, alterations to ranges (including range airspace) for maneuver training and doctrinal changes to accommodate mission-essential training prior to global deployments. PCMS must support training that incorporates these technological and doctrinal changes.

The proposed action would accommodate additional training tasks and equipment to enable training of current and future Fort Carson units. Additional tasks and equipment include unmanned aerial and ground systems, jamming systems, laser target sightings, non-explosive mortars up to 120 mm, and non-explosive aerial gunnery. Unmanned aerial systems would be reconnaissance systems, with no live-fire capability. The Army recently announced decisions to inactivate one Armor Brigade Combat Team (BCT), realign an Armor BCT and an Infantry BCT by adding an additional maneuver battalion to each, and convert the remaining Armor BCT to a Stryker BCT. The final configuration will result in three BCTs: One Armor, one Infantry, and one Stryker. PCMS must support the training needs of these BCTs. Reclassification of the special use airspace that overlies PCMS (not to extend over land outside the boundaries of PCMS) to restricted airspace is part of the proposed action. This reclassification is required to conduct integrated and realistic air and land training and to accommodate high-angle, indirect-fire weapon systems and airborne laser target sighting system training. This proposed reclassification would enable the safe integration of airborne systems (such as unmanned aerial systems) for force-on-force training. Artillery, high explosive aerial ordnance, and Stinger and Hellfire missiles will not be fired at PCMS. Non-dud producing munitions fired from aerial systems, including 5.56mm, 7.62mm, .50 caliber, 20mm, 30mm, 2.75” inert rockets, none of which exceed 81mm, will not produce residual unexploded munitions.

The proposed action could have significant impacts to airspace, soil erosion, wildfire management, cultural resources, and water resources. Mitigation measures will be identified for adverse impacts.

The proposed action only considers activity within the boundaries of PCMS. The proposed action does not include, nor would it require, any expansion of PMCS. No additional land will be sought or acquired as a result of this action.

In addition to analyzing reasonably foreseeable cumulative impacts, which could include additional site infrastructure capable of hosting more local support staff, the EIS will also analyze a No Action Alternative. Under the No Action Alternative, current mission activities and training operations would continue, as well as range use and training land management. Management would continue to include routine maintenance and natural resource sustainment activities. This alternative, required by NEPA, encompasses baseline conditions and will serve as a benchmark against which the environmental impacts of the proposed action can be compared. Other reasonable alternatives will be considered for evaluation in the EIS.

Scoping and public comments: Governmental agencies, interest groups, and individuals are invited to participate in the scoping process. Public meetings will be held in Trinidad and La Junta, Colorado. Information on the time and location of the public meetings will be published locally. In addition, the Army will engage in consultation with federally recognized Native American tribes regarding the proposed action. The scoping process will help identify possible alternatives, potential environmental impacts, and key issues of concern to be analyzed in the EIS. It will also eliminate issues which are not significant or which have been covered by prior environmental reviews from detailed consideration. Written comments will be accepted within 30 days of publication of the Notice of Intent in the Federal Register.

Brenda S. Bowen,
Army Federal Register Liaison Officer.

[FR Doc. 2014-06423 Filed 3-24-14; 8:45 am]

BILLING CODE 3710-08-P